DEPARTMENT OF AGRICULTURE

Animal and Plant Health Inspection Service

[Docket No. APHIS-2021-0081]

Deregulation of Chrysanthemum White Rust and the Importation of Chrysanthemum spp. Cuttings, and In Vitro Plantlets, and Synonymous Genera From Certain Countries Into the Continental United States

AGENCY: Animal and Plant Health Inspection Service, USDA.

ACTION: Notice.

SUMMARY: We are advising the public that we have prepared an economic evaluation (EE) relative to deregulating chrysanthemum white rust (CWR) fungus as a quarantine pest. Based on the conclusions of this EE, we are proposing that CWR would no longer be subject to eradication if detected domestically. Additionally, we have prepared a pest risk analysis regarding the importation of Chrysanthemum spp. and synonymous genera cuttings and in vitro plantlets under a systems approach from Belgium, Bolivia, Brazil, Colombia, Costa Rica, El Salvador, Ethiopia, Germany, Guatemala, Kenya, Mexico, the Netherlands, Nicaragua, Panama, Spain, Tanzania, Tunisia, Uganda, the United Kingdom, and Vietnam, which are all CWR-affected countries, into the continental United States. We have also prepared a pest risk analysis regarding the importation of cuttings, in vitro plantlets, and plants with roots of the same Chrysanthemum spp. and synonymous genera from Canada under a separate protocol. We are making the EE and the pest risk analyses available for review and comment.

DATES: We will consider all comments that we receive on or before June 16, 2023.

ADDRESSES: You may submit comments by either of the following methods:

• Federal eRulemaking Portal: Go to http://www.regulations.gov and enter APHIS-2021-0081 in the Search field.

• Postal Mail/Commercial Delivery: Send your comment to Docket No. APHIS-2021-0081, Regulatory Analysis and Development, PPD, APHIS, Station 3A-03.8, 4700 River Road, Unit 118, Riverdale, MD 20737-1238.

Supporting documents and any comments we receive on this docket may be viewed at http://www.regulations.gov by entering APHIS-2021-0081 in the Search field, or in our reading room, which is located in Room 1620 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Ms. Indira Singh, Senior Regulatory Policy Specialist, PPQ, APHIS, USDA, 4700 River Road, Unit 133, Riverdale, MD 20737-1236; phone: (301) 851-2020; email: Indira.Singh@usda.gov.

SUPPLEMENTARY INFORMATION:

Background

Chrysanthemum white rust (CWR) is a fungal disease caused by the basidiomycete Puccinia horiana, Henn. The Animal and Plant Health Inspection Service (APHIS) currently considers CWR a quarantine pest.¹ Under international standards, a quarantine pest is defined as a pest of potential economic importance to the area endangered by it and not yet present there, or present but not widely distributed there and being officially controlled.” ²

¹ See, e.g., Chapter 6 of the Plants for Planting Manual, which indicates that Chrysanthemum spp. are not authorized pending pest risk analysis, or NAPPRA, from countries in which CWR is known to exist due to CWR risk. To access the manual, go to: https://www.aphis.usda.gov/import_export/plants/manuals/ports/downloads/plants_for_planting.pdf.

² See International Standards for Phytosanitary Measures No. 5, “Glossary of Phytosanitary Terms” found at https://www.fao.org/3/mc891e/mc891e.pdf.

Because CWR is currently considered a quarantine pest, APHIS' policy ³ provides that any CWR detection domestically triggers an eradication protocol requiring complete destruction of symptomatic plants and those nearby. The policy also requires fungicidal treatments be applied to asymptomatic plants. Affected growers or entities bear the CWR eradication expense.

³ See https://www.aphis.usda.gov/plant_health/plant_pest_info/cwr/downloads/cwrplan.pdf.

APHIS has also placed regulatory restrictions and prohibitions on the importation of host material for CWR in order to prevent its introduction into the United States through such importation. The regulations in 7 CFR 319.37-1 through 319.37-23 govern the importation of plants for planting into the United States. Section 319.37-4 of the regulations provides that certain taxa of plants for planting are not authorized for importation into the United States pending pest risk analysis (NAPPRA) to prevent the introduction of quarantine pests into the United States.

Currently, Chrysanthemum spp. and synonymous genera (Archanthemis marschalliana, Argyranthemum spp., Brachanthemum fruticulosum, Coleostephus multicaulis, C. myconis, Dendranthema spp., Glebionis spp., Heteranthemis spp., Hulteniella integrifolia, Leucanthemella spp., Leucanthemopsis spp., Leucanthemum spp., Mauranthemum paludosum, Nipponanthemum nipponicum, Nivellea nivellei, Opisthopappus taihangensis, Pentzia incana, Plagius spp., Rhodanthemum spp., Tanacetum spp., Tripleurospermum spp., and Xylanthemum spp.) cuttings and in vitro plantlets from Belgium, Bolivia, Brazil, Colombia, Costa Rica, El Salvador, Ethiopia, Germany, Guatemala, Kenya, Mexico, the Netherlands, Nicaragua, Panama, Spain, Tanzania, Tunisia, Uganda, the United Kingdom, and Vietnam are NAPPRA. They were added to the NAPPRA list due to the risk that such importation may pose of introducing CWR. Additionally, cuttings, in vitro plantlets, and plants with roots of the same genera from Canada are also currently NAPPRA due to CWR.

Paragraph (e) of § 319.37-4 describes the process for removing taxa from the NAPPRA list. After receiving a request to remove taxa from the NAPPRA list, APHIS will conduct a pest risk analysis (PRA) in response to such a request and make the PRA available for public review and comment. Following the close of the comment period, we will review all comments received and announce our decision regarding the request in a subsequent notice.

In accordance with this process, the 20 countries referenced above submitted a request to remove Chrysanthemum spp. and synonymous genera cuttings and in vitro plantlets from NAPPRA, and we prepared a pest list regarding the quarantine pests that could follow the pathway on the importation of these commodities into the continental United States. Likewise, the national plant protection organization of Canada made a similar request with regard to the importation of cuttings, in vitro plantlets, and plants with roots of these genera, and again, we prepared a pest list regarding such importation. However, because CWR was among the quarantine pests on these pest lists, based on longstanding APHIS policy, we were not able to take further action at the time.

This notice announces that we have reevaluated that policy. Since CWR was first discovered in the United States in 1977, detections that reappeared several times were believed eradicated. This belief, along with our assumption that the economic consequences of CWR establishment outweighed the costs of control, undergirded our determination that CWR was of quarantine significance.

Evolving biological research has indicated, however, that CWR can be systemic and survive in below-ground parts. Accordingly, APHIS has undertaken an economic evaluation (EE) that analyzes CWR's regulatory status in light of this evolving biological research. The EE concludes that the U.S. eradication policy for CWR appears to be no longer technically and economically justified and recommends that it no longer be considered of quarantine significance.

Based on the recommendations of the EE, we are proposing to change APHIS policy so that CWR would no longer be considered of quarantine significance if detected domestically or on imported plants for planting.

Based on the conclusions of the EE and the pest lists, we have developed a commodity import evaluation document (CIED) that recommends a systems approach to mitigate the quarantine pest risk associated with the importation of Chrysanthemum spp. and synonymous genera (Archanthemis marschalliana, Argyranthemum spp., Brachanthemum fruticulosum, Coleostephus multicaulis, C. myconis, Dendranthema spp., Glebionis spp., Heteranthemis spp., Hulteniella integrifolia, Leucanthemella spp., Leucanthemopsis spp., Leucanthemum spp., Mauranthemum paludosum, Nipponanthemum nipponicum, Nivellea nivellei, Opisthopappus taihangensis, Pentzia incana, Plagius spp., Rhodanthemum spp., Tanacetum spp., Tripleurospermum spp., and Xylanthemum spp.) cuttings and in vitro plantlets from Belgium, Bolivia, Brazil, Colombia, Costa Rica, El Salvador, Ethiopia, Germany, Guatemala, Kenya, Mexico, the Netherlands, Nicaragua, Panama, Spain, Tanzania, Tunisia, Uganda, the United Kingdom, and Vietnam. The CIED also proposes a systems approach to mitigate the quarantine pest risk associated with the importation of cuttings, in vitro plantlets, and plants with roots of these genera from Canada.

In accordance with paragraph (e) of § 319.37-4, we are announcing the availability of our pest lists, CIED, and EE for public review and comment. These documents may be viewed on the Regulations.gov website or in our reading room (see ADDRESSES above for a link to Regulations.gov and information on the location and hours of the reading room). You may request paper copies of these documents by calling or writing to the person listed under FOR FURTHER INFORMATION CONTACT. Please refer to the subject of the analysis you wish to review when requesting copies.

After reviewing any comments that we receive, we will announce our decision regarding whether to no longer consider CWR a quarantine pest domestically and for purposes of our plants for planting regulations. If we determine that it should no longer be considered of quarantine significance, we will also announce our decision regarding the importation of Chrysanthemum spp. and synonymous genera (Archanthemis marschalliana, Argyranthemum spp., Brachanthemum fruticulosum, Coleostephus multicaulis, C. myconis, Dendranthema spp., Glebionis spp., Heteranthemis spp., Hulteniella integrifolia, Leucanthemella spp., Leucanthemopsis spp., Leucanthemum spp., Mauranthemum paludosum, Nipponanthemum nipponicum, Nivellea nivellei, Opisthopappus taihangensis, Pentzia incana, Plagius spp., Rhodanthemum spp., Tanacetum spp., Tripleurospermum spp., and Xylanthemum spp.) cuttings and in vitro plantlets from Belgium, Bolivia, Brazil, Colombia, Costa Rica, El Salvador, Ethiopia, Germany, Guatemala, Kenya, Mexico, the Netherlands, Nicaragua, Panama, Spain, Tanzania, Tunisia, Uganda, the United Kingdom, and Vietnam into the continental United States, and the importation of cuttings, in vitro plantlets and plants with roots for planting of Chrysanthemum spp. and the specified synonymous genera from Canada under a systems approach in a subsequent notice.

If finalized, the requirements of the systems approach will be added to the Plants for Planting Manual in accordance with paragraph (a) of § 319.37-20.

Authority: 7 U.S.C. 1633, 7701-7772, and 7781-7786; 21 U.S.C. 136 and 136a; 7 CFR 2.22, 2.80, and 371.3.

Done in Washington, DC, this 7th day of April 2023.
Michael Watson,
Acting Administrator, Animal and Plant Health Inspection Service.

[FR Doc. 2023-07895 Filed 4-14-23; 8:45 am]

BILLING CODE 3410-34-P